NATIONAL WOMEN'S BUSINESS COUNCIL

Quarterly Public Meeting

AGENCY: National Women's Business Council.

ACTION: Notice of open public meeting.

DATES: The Public Meeting will be held on Thursday, June 30, 2016 from 2:00 p.m. to 4:00 p.m. EST.

ADDRESSES: The meeting will be held virtually via teleconference.

SUPPLEMENTARY INFORMATION: Pursuant to section 10(a)(2) of the Federal Advisory Committee Act (5 U.S.C., Appendix 2), the U.S. Small Business Administration (SBA) announces the meeting of the National Women's Business Council. The National Women's Business Council conducts research on issues of importance and impact to women entrepreneurs and makes policy recommendations to the SBA, Congress, and the White House on how to improve the business climate for women.

This meeting is the 3rd quarter meeting for Fiscal Year 2016. The program will include remarks from the Council Chair, Carla Harris; updates on research projects in progress, including: Women's participation in corporate supplier diversity programs, women's participation in accelerators and incubators, entrepreneurship amongst black women, and ecosystems; a recap of the Council's recent engagement efforts; and an announcement of the Council's new research portfolio. The Council will also share a new tool—a resource platform for women in pursuit of growth. Time will be reserved at the end for audience participants to address Council Members directly with questions, comments, or feedback. Additional speakers will be promoted upon confirmation.

FOR FURTHER INFORMATION CONTACT: The meeting is open to the public however advance notice of attendance is requested. To RSVP and confirm attendance, the general public should email info@nwbc.gov with subject line—“RSVP for 6/30 Public Meeting”. Anyone wishing to make a presentation to the NWBC at this meeting must either email their interest to info@nwbc.gov or call the main office number at 202-205-3850.

For more information, please visit the National Women's Business Council Web site at www.nwbc.gov.

Dated: May 12, 2016.
Miguel J. L'Heureux,
SBA Committee Management Officer.

[FR Doc. 2016-12103 Filed 5-23-16; 8:45 am]

BILLING CODE P